ENVIRONMENTAL PROTECTION AGENCY

[FRL OP-OFA-001]

Environmental Impact Statements; Notice of Availability

Responsible Agency: Office of Federal Activities, General Information 202-564-5632 or https://www.epa.gov/nepa.

Weekly receipt of Environmental Impact Statements (EIS)

Filed January 14, 2022 10 a.m. EST Through January 24, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220008, Draft, FTA, WA, West Seattle and Ballard Link Extensions, Comment Period Ends: 04/28/2022, Contact: Mark Assam 206-220-4465.

EIS No. 20220009, Final, FTA, OR, Southwest Corridor Light Rail Project Final Environmental Impact Statement, Review Period Ends: 02/28/2022, Contact: Mark Assam 206-220-4465.

EIS No. 20220010, Final, USFS, MT, Land Management Plan, Custer Gallatin National Forest, Review Period Ends: 02/28/2022, Contact: Mariah Leuschen-Lonergan 406-587-6735.

Dated: January 25, 2022.
Marthea Rountree,
Acting Director, NEPA Compliance Division, Office of Federal Activities.

[FR Doc. 2022-01768 Filed 1-27-22; 8:45 am]

BILLING CODE 6560-50-P